DEPARTMENT OF HEALTH AND HUMAN SERVICES

Centers for Disease Control and Prevention

[30Day-35-04]

Proposed Data Collections Submitted for Public Comment and Recommendations

The Centers for Disease Control and Prevention (CDC) publishes a list of information collection requests under review by the Office of Management and Budget (OMB) in compliance with the Paperwork Reduction Act (44 U.S.C. chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: Assessment of Educational Materials and Information Distribution Systems—New—National Center for Infectious Diseases (NCID), Centers for Disease Control and Prevention (CDC).

CDC, National Center for Infectious Diseases, Division of Healthcare Quality Promotion (DHQP) provides public health prevention resources in the form of notices about adverse outcomes, and educational products and materials to assist healthcare personnel in monitoring and preventing infections, antimicrobial resistance, and other adverse events.

The educational materials include slides sets, web-based information and instruction, posters, video conferences, and workbooks. The educational materials may be distributed through the Internet, postal mail, or electronic mail. The notices include important alerts about healthcare-associated disease outbreaks and clusters that may be of national importance. These notices are delivered through a voluntary Rapid Notification System e-mail subscriber list that can also rapidly gather information to assess the scope of these problems in U.S. healthcare facilities and target corrective actions or educational strategies.

To ensure that these important functions are performed efficiently and provide the strongest public health benefit possible, CDC needs to assess their usability and develop strategies to improve quality. In addition, CDC will monitor its DHQP website and other distribution systems (e.g. electronic mail, postal mail) and conduct assessments. These assessments will enable CDC to better assist healthcare personnel in preventing infections, antimicrobial resistance, and other adverse events. Data will be collected using the Internet or printed forms. The estimated annualized burden is 4,855 hours.

Title | Number of respondents | Number of responses per respondent | Average burden per response (in hours)
Assessment of Educational Materials | 3,125 | 1 | 10/60
Assessment of Web site | 25,000 | 1 | 10/60
Assessment of Knowledge, Attitudes, and Beliefs | 1,000 | 1 | 10/60

Dated: May 10, 2004.
Alvin Hall,
Director, Management Analysis and Services Office, Centers for Disease Control and Prevention.

[FR Doc. 04-11278 Filed 5-20-04; 8:45 am]

BILLING CODE 4163-18-P